DEPARTMENT OF COMMERCE

Foreign-Trade Zones Board

[S-160-2018]

Approval of Subzone Status, Winpak Heat Seal Corporation, Pekin, Illinois

On October 9, 2018, the Executive Secretary of the Foreign-Trade Zones (FTZ) Board docketed an application submitted by the EDC, Inc., The Economic Development Council for the Peoria Area, grantee of FTZ 114, requesting subzone status subject to the existing activation limit of FTZ 114, on behalf of Winpak Heat Seal Corporation, in Pekin, Illinois.

The application was processed in accordance with the FTZ Act and Regulations, including notice in the Federal Register inviting public comment (83 FR 51926, October 15, 2018). The FTZ staff examiner reviewed the application and determined that it meets the criteria for approval. Pursuant to the authority delegated to the FTZ Board Executive Secretary (15 CFR Sec. 400.36(f)), the application to establish Subzone 114G was approved on November 30, 2018, subject to the FTZ Act and the Board's regulations, including Section 400.13, and further subject to FTZ 114's 990-acre activation limit.

Dated: November 30, 2018.
Andrew McGilvray,
Executive Secretary.

[FR Doc. 2018-26550 Filed 12-6-18; 8:45 am]

BILLING CODE 3510-DS-P